DEPARTMENT OF AGRICULTURE

Rural Housing Service

Notice for Requests for Proposals for Guaranteed Loans Under the Section 538 Guaranteed Rural Rental Housing Program (GRRHP) for Fiscal Year 2005

AGENCY: Rural Housing Service, USDA.

ACTION: Notice; correction.

SUMMARY: The Rural Housing Service (RHS) is correcting a notice published March 14, 2005 (70 FR 12569-12575). This action is taken to correct language that purports that Notice responses that score less than 25 points or score 25 points or more but have a development cost ratio of equal to or more than 70 percent may not be selected for further processing and obligation after June 13, 2005. These corrections are intended to ensure that all Notice responses received prior to June 13, 2005, and that meet program criteria, but score less than 25 points or score 25 points or more but have a development cost ratio of equal to or more than 70 percent may be selected for obligation after June 13, 2005, with the highest scoring responses receiving priority as long as funds remain available. These corrections are also intended to ensure that the Agency will continue to select the highest scoring Notice responses received after June 13, 2005, notwithstanding the score, as long as the response meets program criteria and funds remain available.

Accordingly, the Notice published on March 14, 2005 (70 FR 12569-12575), is corrected as follows:

On page 12569, in the first column, fourth paragraph, under the heading DATES, the fourth sentence is corrected to read as follows: “Each month after June 13, 2005, the Agency will select the highest scoring proposals, in light of the remaining funding, until all funds are expended.”

On page 12569, in the second column, under the heading DATES, the fifth sentence, “Priority for the selection of proposals that meet the threshold score of 25 will be given to the highest scoring proposals,” is removed.

On page 12574, in the first column, first paragraph, under the heading “Scoring of Priority Criteria for Selection of Projects,” the fifth sentence is corrected to read as follows: “Each month after June 13, 2005, the Agency will select the highest scoring proposals, in light of the remaining funding, until all funds are expended.”

On page 12574, in the first column, first paragraph, under the heading “Scoring of Priority Criteria for Selection of Projects,” the sixth sentence, “Priority for the selection of proposals that meet the threshold score of 25 will be given to the highest scoring proposals,” is removed.

Dated: April 8, 2005.
Russell T. Davis,
Administrator, Rural Housing Service.

[FR Doc. 05-9156 Filed 5-6-05; 8:45 am]

BILLING CODE 3410-XV-P